FEDERAL COMMUNICATIONS COMMISSION

47 CFR Part 73

[DA 08-378; MB Docket No. 07-165; RM-11371]

Radio Broadcasting Services; Blanca, CO

AGENCY: Federal Communications Commission.

ACTION: Final rule.

SUMMARY: At the request of Kevin J. Youngers, Channel 249C2 at Blanca, Colorado, is allotted as the community's first local aural transmission service. Channel 249C2 is allotted at Blanca, Colorado with a site restriction of 6.6 kilometers (4.1 miles) east of the community at coordinates 37-26-35 NL and 105-26-29 WL .

DATES: Effective March 31, 2008.

ADDRESSES: Secretary, Federal Communications Commission, 445 Twelfth Street, SW., Washington, DC 20554.

FOR FURTHER INFORMATION CONTACT: Victoria McCauley, Media Bureau, (202) 418-2180.

SUPPLEMENTARY INFORMATION: This is a synopsis of the Commission's Report and Order MB Docket No. 07-165, adopted February 13, 2008, and released February 15, 2008. The Notice of Proposed Rule Making proposed the allotment of Channel 249C2 at Blanca, Colorado. See 72 FR 46949, published August 22, 2007. To accommodate the allotment, United States CP, LLC, permittee on Channel 249A at Westcliffe, Colorado, has consented to substitute Channel 269A for Channel 249A at Westcliffe. The full text of this Commission decision is available for inspection and copying during normal business hours in the FCC's Reference Information Center at Portals II, CY-A257, 445 Twelfth Street, SW., Washington, DC 20554. This document may also be purchased from the Commission's copy contractor, Best Copy and Printing, Inc., Portals II, 445 12th Street, SW., Room CY-B402, Washington, DC 20554, telephone 1-800-378-3160 or http://www.BCPIWEB.com. The Commission will send a copy of this Report and Order in a report to be sent to Congress and the Government Accountability Office pursuant to the Congressional Review Act, see 5 U.S.C. 801(a)(1)(A).

List of Subjects in 47 CFR Part 73

Radio, Radio broadcasting.

As stated in the preamble, the Federal Communications Commission amends 47 CFR part 73 as follows:

PART 73—RADIO BROADCAST SERVICES

1. The authority citation for part 73 continues to read as follows:

Authority: 47 U.S.C. 154, 303, 334, 336.

§ 73.202 [Amended]

2. Section 73.202(b), the Table of FM Allotments under Colorado is amended by adding Blanca, Channel 249C2.

Federal Communications Commission.
John A. Karousos,
Assistant Chief, Audio Division, Media Bureau.

[FR Doc. E8-4028 Filed 2-29-08; 8:45 am]

BILLING CODE 6712-01-P